ENVIRONMENTAL PROTECTION AGENCY

[FRL-6839-4]

Regulatory Reinvention (XL) Pilot Projects

AGENCY: Environmental Protection Agency.

ACTION: Notice of availability of the Project XL Draft Final Project Agreement for the Metropolitan Water Reclamation District of Greater Chicago.

SUMMARY: EPA is requesting comments on a Draft Project XL Final Project Agreement (FPA) for the Metropolitan Water Reclamation District of Greater Chicago (hereafter “The District”). The FPA is a voluntary agreement developed collaboratively by the District, the Illinois EPA, USEPA and interested stakeholders. Project XL, announced in the Federal Register on May 23, 1995 (60 FR 27282), gives regulated entities the flexibility to develop alternative strategies that will replace or modify specific regulatory or procedural requirements on the condition that they produce greater environmental benefits. EPA has set a goal of implementing fifty XL projects undertaken in full partnership with the states.

In the draft FPA, the District's proposed project consists of four interrelated components.

The first is a request to EPA and IEPA for regulatory flexibility with regard to its obligation under the General Pretreatment Regulations to provide regulatory oversight to small Categorical Industrial Users (CIUs) into the District's WRPs. This flexibility will allow the District to reallocate currently committed resources to other activities with greater potential for environmental benefit.

Second, the District proposes that its Pretreatment Program Annual Report be revised to include detailed information regarding environmental performance that is not currently required in the Annual Report. To offset the District's commitment to include this additional information in its Annual Report, detailed oversight information regarding SIUs will be limited to only the population of SIUs that were found in significant noncompliance at any time during the report year.

Third, to further promote the objectives of the Strategic Goals Program (SGP), the District will create Strategic Performance Partnerships (Partnerships) with metal finishing facilities that fully achieve the individual facility goals outlined in the SGP. Under these Partnerships, the District will work cooperatively with demonstrated sector leaders to develop, test, and implement alternative measurement systems for demonstrating environmental performance.

Fourth, the District proposes to address non-regulated priority pollutants that may be of concern on a local scale by developing Toxic Reduction Action Plans (TRAPs). Under TRAPs, an interagency task force (District, EPA and Illinois EPA) will use existing environmental data (i.e., District emissions data and multi-agency ambient environmental monitoring data) to identify priority pollutants which are documented to be present in quantities or concentrations that may be a risk to the District's facilities or the ambient environment but not currently subject to regulation, and rank these pollutants in order of importance. As resources become available through the regulatory flexibility described above, the District will attempt to reduce discharges and emissions of these pollutants through a variety of non-traditional strategies such as pollution prevention outreach and consumer education programs. The site specific rulemaking setting forth the specific regulatory flexibility to be implemented will be developed and will ensure that the project will fully comply with applicable federal requirements under the Clean Water Act.

DATES: The period for submission of comments ends on August 7, 2000.

ADDRESSES: All comments on the proposed Final Project Agreement should be sent to:

Matthew Gluckman, USEPA, 77 West Jackson Boulevard, Chicago, IL 60604, or Chad Carbone, U.S. EPA, Room 1027WT (1802), 1200 Pennsylvania Ave., NW, Washington, DC 20460. Comments may also be faxed to Mr. Gluckman (312) 886-7804, or Mr. Carbone (202) 260-1812. Comments may also be received via electronic mail sent to: gluckman.matthew@epa.gov or carbone.chad@epa.gov.

FOR FURTHER INFORMATION CONTACT: To obtain a copy of the proposed Final Project Agreement or Fact Sheet, contact: Matthew Gluckman, USEPA, 77 West Jackson Boulevard, Chicago, IL 60604 or Chad Carbone, Room 1027WT (1802) U.S. EPA, 1200 Pennsylvania Ave., NW, Washington, DC 20460. The FPA and related documents are also available via the Internet at the following location: http://www.epa.gov/ProjectXL. Questions to EPA regarding the documents can be directed to Matthew Gluckman at (312) 886-6089 or Chad Carbone at (202) 260-4296. For information on all other aspects of the XL Program contact Christopher Knopes at the following address: Office of Policy, Economics and Innovation, United States Environmental Protection Agency, 1200 Pennsylvania Ave., NW, Room 1029WT (Mail Code 1802), Washington, DC 20460. Additional information on Project XL, including documents referenced in this notice, other EPA policy documents related to Project XL, regional XL contacts, application information, and descriptions of existing XL projects and proposals, is available via the Internet at http://www.epa.gov/ProjectXL.

Dated: July 18, 2000.
Christopher Knopes,
Acting Deputy Associate Administrator, Office of Policy, Economics and Innovation.

[FR Doc. 00-18638 Filed 7-21-00; 8:45 am]

BILLING CODE 6560-50-U